DEPARTMENT OF COMMERCE

International Trade Administration

[A-570-979]

Crystalline Silicon Photovoltaic Cells, Whether or Not Assembled Into Modules, From the People's Republic of China: Notice of Correction to the Final Results of the 2016-2017 Antidumping Duty Administrative Review

AGENCY: Enforcement and Compliance, International Trade Administration, Department of Commerce.

SUMMARY: The Department of Commerce (Commerce) is correcting its notice of the final results of the fifth administrative review of the antidumping duty (AD) order on crystalline silicon photovoltaic cells, whether or not assembled into modules (solar cells), from the People's Republic of China (China). The period of review (POR) is December 1, 2016 through November 30, 2017.

DATES: Applicable September 30, 2019.

FOR FURTHER INFORMATION CONTACT: Jeff Pedersen, AD/CVD Operations, Office IV, Enforcement & Compliance, International Trade Administration, Department of Commerce, 1401 Constitution Avenue NW, Washington, DC 20230; telephone: (202) 482-2769.

SUPPLEMENTARY INFORMATION: On July 30, 2019, Commerce published the final results of the 2016-2017 administrative review of the AD order on solar cells from China in the Federal Register.¹ In the Final Results, we incorrectly included Wuxi Suntech Power Co., Ltd/Luoyang Suntech Power Co., Ltd. (Wuxi Suntech) in the list of companies we were continuing to find had made no shipments of subject merchandise to the United States during the POR. However, in the Preliminary Results we stated the following:

¹ See Crystalline Silicon Photovoltaic Cells, Whether or Not Assembled Into Modules, From the People's Republic of China: Final Results of Antidumping Duty Administrative Review and Final Determination of No Shipments; 2016-2017, 84 FR 36886 (July 30, 2019) (Final Results).

We found that Wuxi Suntech Power Co., Ltd/Luoyang Suntech Power Co., Ltd. . . . , which claimed no exports, sales or entries of subject merchandise during the POR did, in fact, sell subject merchandise to the United States during the POR. {This company did not file} a separate rate application or certification and thus they have not established their entitlement to a separate rate in this review.²

² See Crystalline Silicon Photovoltaic Cells, Whether or Not Assembled Into Modules, From the People's Republic of China: Preliminary Results of Antidumping Duty Administrative Review and Preliminary Determination of No Shipments; 2016-2017, 83 FR 67222, 67223 (December 28, 2018) (Preliminary Results).

We based this preliminary finding on record evidence that Wuxi Suntech sold subject merchandise to the United States during the POR.³ We provided Wuxi Suntech an opportunity to discuss the evidence at the time that we placed it on the record,⁴ and also provided Wuxi Suntech with an opportunity to submit a case brief concerning our Preliminary Results. Wuxi Suntech did not comment on the evidence or submit a case brief. Thus, there was no basis, and Commerce did not intend, to change our preliminary decision with respect to Wuxi Suntech's Power Co., Ltd/Luoyang Suntech Power Co., Ltd.'s no shipment claim or our preliminary finding that this company was not eligible for a separate rate. Hence, we erred when we included Wuxi Suntech Power Co., Ltd/Luoyang Suntech Power Co., Ltd. in the list of companies that we found did not ship subject merchandise to the United States during the POR. Therefore, we are correcting the Final Results by clarifying that we have adopted our Preliminary Results with respect to Wuxi Suntech Power Co., Ltd/Luoyang Suntech Power Co., Ltd. in the Final Results. Specifically, we are continuing to find that Wuxi Suntech Power Co., Ltd/Luoyang Suntech Power Co., Ltd. did in fact have shipments of subject merchandise to the United States during the POR and that Wuxi Suntech Power Co., Ltd/Luoyang Suntech Power Co., Ltd. is not eligible for separate rate status, and thus is part of the China-wide entity. As we noted in the Final Results, the China-wide entity rate is 238.95 percent.⁵

³ Id.

⁴ See Memorandum, “Crystalline Silicon Photovoltaic Cells, Whether or Not Assembled Into Modules, from the People's Republic of China: Release of U.S. Customs and Border Protection Information Relating to No Shipment Claims Made in the 2016-2017 Administrative Review of Crystalline Silicon Photovoltaic Cells from the People's Republic of China,” dated September 10, 2018; see also Memorandum, “Crystalline Silicon Photovoltaic Cells, Whether or Not Assembled Into Modules, from the People's Republic of China: Information Concerning September 7, 2018 Memorandum,” dated October 23, 2018.

⁵ See Final Results, 84 FR at 36888.

This correction to the final results and notice are issued and published in accordance with sections 751(a) and 777(i) of the Tariff Act of 1930, as amended.

Dated: September 20, 2019.
Jeffrey I. Kessler,
Assistant Secretary for Enforcement and Compliance.

[FR Doc. 2019-21150 Filed 9-27-19; 8:45 am]

BILLING CODE 3510-DS-P